DEPARTMENT OF LABOR

Agency Information Collection Activities; Submission for OMB Review; Comment Request, Reemployment Services and Eligibility Assessments (RESEA) Program Implementation Study, Reinstatement

AGENCY: Office of the Assistant Secretary for Policy, Chief Evaluation Office, Department of Labor.

ACTION: Notice of Information Collection; request for comment.

SUMMARY: The Department of Labor (DOL), as part of its continuing effort to reduce paperwork and respondent burden, conducts a preclearance consultation program to provide the general public and federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents is properly assessed. Currently, the Department of Labor is soliciting comments concerning the collection of data about the Reemployment Services and Eligibility Assessments (RESEA) Program Implementation Study. A copy of the proposed Information Collection Request (ICR) can be obtained by contacting the office listed below in the addressee section of this notice.

DATES: Written comments must be submitted to the office listed in the addressee section below on or before March 20, 2023.

ADDRESSES: You may submit comments by either one of the following methods: Email: ChiefEvaluationOffice@dol.gov; Mail or Courier: Megan Lizik, Chief Evaluation Office, OASP, U.S. Department of Labor, Room S-2312, 200 Constitution Avenue NW, Washington, DC 20210. Instructions: Please submit one copy of your comments by only one method. All submissions received must include the agency name and OMB Control Number identified above for this information collection. Comments, including any personal information provided, become a matter of public record. They will also be summarized and/or included in the request for OMB approval of the information collection request.

FOR FURTHER INFORMATION CONTACT: Megan Lizik by email at ChiefEvaluationOffice@dol.gov or by phone at (202)430-1255.

SUPPLEMENTARY INFORMATION:

I. Background: DOL funds RESEA programs across all 50 states, DC, Puerto Rico, and the Virgin Islands. States and territories use these funds to address the reemployment services needs of Unemployment Insurance (UI) claimants and to prevent and detect UI improper payments (Unemployment Insurance Program Letter 8-18). The Bipartisan Budget Act of 2018 (Pub. L. 115-123) included amendments to the Social Security Act (SSA) that create a permanent authorization for the RESEA program. The permanently authorized RESEA program in Section 306 of the SSA provides for a phased implementation of new program requirements over several years, one of which is to “establish and expand the use of evidence-based interventions” in states' RESEA programs. To help meet this requirement and build evidence about RESEA, DOL is conducting an implementation study that will provide an understanding of current RESEA programs and program components being implemented in the field. As part of this implementation study, DOL will conduct a web-based survey of all RESEA grantees nationwide. This Federal Register Notice provides the opportunity to comment on a new proposed information collection activity that will be used for the implementation study.

• Web-based survey instrument. The evaluation team will conduct a survey of all states and territories operating RESEA programs to systematically gather up-to-date information about RESEA program operations not available in existing documents. This includes detail on how reemployment services are provided, interactions with federal workforce programs, how eligibility assessment and enforcement are carried out, types of reemployment services provided, and exploratory information about evaluation activities.

II. Desired Focus of Comments: Currently, the Department of Labor is soliciting comments concerning the above data collection for the Evaluation to Advance Reemployment Services and Eligibility Assessments Program Evidence. DOL is particularly interested in comments that do the following:

○ evaluate whether the proposed collection of information is necessary for the proper performance functions of the agency, including whether the information will have practical utility;

○ evaluate the accuracy of the agency's burden estimate of the proposed information collection, including the validity of the methodology and assumptions;

○ enhance the quality, utility, and clarity of the information to be collected; and

○ minimize the burden of the collection of information on those who are to respond, including through the use of appropriate automated, electronic, mechanical, or other technological collection techniques or other forms of information technology—for example, permitting electronic submissions of responses.

III. Current Actions: At this time, the Department of Labor is requesting clearance for for the survey protocol to be administered with all RESEA grantees nationwide.

Type of Review: New information collection request.

OMB Control Number: 1290-0029.

Affected Public: State RESEA program administrators.

Comments submitted in response to this request will be summarized and/or included in the request for Office of Management and Budget approval of the information collection request; they will also become a matter of public record.

Estimated Annual Burden Hours
Type of instrument | Number of respondents ᵃ | Number of responses per respondent | Total No. of responses | Average burden time per response (hours) | Estimated burden hours
Web-based survey instrument for State RESEA administrators | ᵇ 18 | 1 | 18 | 2 | 36
Total | 18 | 1 | 18 | 2 | 36
ᵃ We are seeking a clearance period of three years.
ᵇ Assumes approximately 1 survey participant from each of approximately 53 state and territory RESEA programs over the three-year clearance period.

Scott Gibbons,
Acting Chief Evaluation Officer, U.S. Department of Labor.

[FR Doc. 2023-00917 Filed 1-18-23; 8:45 am]

BILLING CODE 4510-HX-P